DEPARTMENT OF COMMERCE

National Oceanic and Atmospheric Administration

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Deep Seabed Mining Exploration Licenses.

OMB Control Number: 0648-0145.

Form Number(s): None.

Type of Request: Regular (extension of a currently approved information collection).

Number of Respondents: 1.

Average Hours per Response: License renewals, 200 (annualized over 5 years to 40 hours); annual reports, 20 hours.

Burden Hours: 60.

Needs and Uses: This request is for extension of a currently approved information collection.

NOAA's regulations at 15 CFR part 970 govern the issuing and monitoring of exploration licenses under the Deep Seabed Hard Mineral Resources Act. Any persons seeking a license must submit certain information that allows NOAA to ensure the applicant meets the standards of the Act. Persons with licenses are required to conduct monitoring and make reports, and they may request revisions, transfers, or extensions of licenses.

Affected Public: Business or other for-profit organizations.

Frequency: Annually and every five years.

Respondent's Obligation: Required to obtain or maintain benefits.

This information collection request may be viewed at reginfo.gov. Follow the instructions to view Department of Commerce collections currently under review by OMB.

Written comments and recommendations for the proposed information collection should be sent within 30 days of publication of this notice to OIRA_Submission@omb.eop.gov or fax to (202) 395-5806.

Dated: March 24, 2015.
Sarah Brabson,
NOAA PRA Clearance Officer.

[FR Doc. 2015-07149 Filed 3-27-15; 8:45 am]

BILLING CODE 3510-08-P